DEPARTMENT OF ENERGY

Federal Energy Regulatory Commission

Combined Notice of Filings #1

Take notice that the Commission received the following electric rate filings:

Docket Numbers: ER10-2564-011; ER10-2600-011; ER10-2289-011.

Applicants: UniSource Energy Development Company, UNS Electric, Inc., Tucson Electric Power Company.

Description: Amendment to June 21, 2021 Notice of Non-Material Change in Status of Tucson Electric Power Company, et al.

Filed Date: 9/27/21.

Accession Number: 20210927-5086.

Comment Date: 5 p.m. ET 10/18/21.

Docket Numbers: ER21-1576-002.

Applicants: Tri-State Generation and Transmission Association, Inc., Southwest Power Pool, Inc.

Description: Compliance filing: Southwest Power Pool, Inc. submits tariff filing per 35: Compliance Filing in Response to Order issued in ER21-1576 (Tri-State) to be effective 6/1/2021.

Filed Date: 9/27/21.

Accession Number: 20210927-5119.

Comment Date: 5 p.m. ET 10/18/21.

Docket Numbers: ER21-2571-001.

Applicants: Midcontinent Independent System Operator, Inc., Consumers Energy Company, Michigan Electric Transmission Company, LLC.

Description: Tariff Amendment: Midcontinent Independent System Operator, Inc. submits tariff filing per 35.17(b): 2021-09-24_SA 3315 METC-CE 1st Rev TSA to be effective 9/30/2021.

Filed Date: 9/24/21.

Accession Number: 20210924-5070.

Comment Date: 5 p.m. ET 10/15/21.

Docket Numbers: ER21-2766-000.

Applicants: Central Line Solar, LLC.

Description: Supplement to August 25, 2021 Central Line Solar, LLC tariff filing.

Filed Date: 9/23/21.

Accession Number: 20210923-5149.

Comment Date: 5 p.m. ET 10/4/21.

Docket Numbers: ER21-2934-000.

Applicants: East Texas Electric Cooperative, Inc.

Description: Notice of Cancellation of Revenue Requirements for Reactive Service of East Texas Electric Cooperative, Inc.

Filed Date: 9/24/21.

Accession Number: 20210924-5122.

Comment Date: 5 p.m. ET 10/15/21.

Docket Numbers: ER21-2935-000.

Applicants: Southwest Power Pool, Inc.

Description: § 205(d) Rate Filing: 1166R37 Oklahoma Municipal Power Authority NITSA and NOA to be effective 9/1/2021.

Filed Date: 9/27/21.

Accession Number: 20210927-5057.

Comment Date: 5 p.m. ET 10/18/21.

Docket Numbers: ER21-2936-000.

Applicants: Southwest Power Pool, Inc.

Description: § 205(d) Rate Filing: 1534R13 Kansas Municipal Energy Agency NITSA NOA to be effective 9/1/2021.

Filed Date: 9/27/21.

Accession Number: 20210927-5065.

Comment Date: 5 p.m. ET 10/18/21.

Docket Numbers: ER21-2937-000.

Applicants: Southern California Edison Company.

Description: § 205(d) Rate Filing: 2021 SCE Revised TO Tariff Appendix X to be effective 10/1/2021.

Filed Date: 9/27/21.

Accession Number: 20210927-5078.

Comment Date: 5 p.m. ET 10/18/21.

Docket Numbers: ER21-2938-000.

Applicants: PJM Interconnection, L.L.C.

Description: § 205(d) Rate Filing: Amendment to ISA, Service Agreement No. 2118; Queue No. P46 to be effective 2/5/2009.

Filed Date: 9/27/21.

Accession Number: 20210927-5089.

Comment Date: 5 p.m. ET 10/18/21.

Docket Numbers: ER21-2939-000.

Applicants: Southern California Edison Company.

Description: § 205(d) Rate Filing: 2021 SCE Revised WDAT Attachment J to be effective 10/1/2021.

Filed Date: 9/27/21.

Accession Number: 20210927-5096.

Comment Date: 5 p.m. ET 10/18/21.

Docket Numbers: ER21-2940-000.

Applicants: Midcontinent Independent System Operator, Inc., Ameren Illinois Company.

Description: § 205(d) Rate Filing: Midcontinent Independent System Operator, Inc. submits tariff filing per 35.13(a)(2)(iii: 2021-09-27_SA 3705 Ameren Illinois-SIPC Mutual As-Available Agreement to be effective 11/27/2021.

Filed Date: 9/27/21.

Accession Number: 20210927-5098.

Comment Date: 5 p.m. ET 10/18/21.

Docket Numbers: ER21-2941-000.

Applicants: Arizona Public Service Company.

Description: § 205(d) Rate Filing: Service Agreement No. 394 to be effective 9/14/2021.

Filed Date: 9/27/21.

Accession Number: 20210927-5109.

Comment Date: 5 p.m. ET 10/18/21.

Docket Numbers: ER21-2942-000.

Applicants: EnerSmart El Cajon BESS LLC.

Description: Baseline eTariff Filing: Market-Based Rate Application to be effective 11/27/2021.

Filed Date: 9/27/21.

Accession Number: 20210927-5117.

Comment Date: 5 p.m. ET 10/18/21.

Docket Numbers: ER21-2943-000.

Applicants: Florida Power & Light Company.

Description: § 205(d) Rate Filing: FPL & LCEC Revisions to Rate Schedule No. 317 to be effective 9/28/2021.

Filed Date: 9/27/21.

Accession Number: 20210927-5123.

Comment Date: 5 p.m. ET 10/18/21.

Docket Numbers: ER21-2945-000.

Applicants: Florida Power & Light Company.

Description: § 205(d) Rate Filing: FPL & FKEC Revisions to Rate Schedule No. 322 to be effective 9/28/2021.

Filed Date: 9/27/21.

Accession Number: 20210927-5125.

Comment Date: 5 p.m. ET 10/18/21.

Take notice that the Commission received the following electric securities filings:

Docket Numbers: ES21-83-000.

Applicants: NSTAR Electric Company.

Description: Application Under Section 204 of the Federal Power Act for Authorization to Issue Securities of NSTAR Electric Company.

Filed Date: 9/27/21.

Accession Number: 20210927-5130.

Comment Date: 5 p.m. ET 10/18/21.

Docket Numbers: ES21-84-000.

Applicants: The Connecticut Light and Power Company.

Description: Application Under Section 204 of the Federal Power Act for Authorization to Issue Securities of The Connecticut Light and Power Company.

Filed Date: 9/27/21.

Accession Number: 20210927-5132.

Comment Date: 5 p.m. ET 10/18/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2021.
Debbie-Anne A. Reese,
Deputy Secretary.

[FR Doc. 2021-21409 Filed 9-30-21; 8:45 am]

BILLING CODE 6717-01-P